ENVIRONMENTAL PROTECTION AGENCY

[EPA-HQ-OW-2004-0013; FRL 9149-01-OW]

Proposed Renewal Information Collection Request; Comment Request; EPA Program Information on Source Water Protection

AGENCY: Environmental Protection Agency (EPA).

ACTION: Notice.

SUMMARY: The U.S. Environmental Protection Agency (EPA) is planning to submit an information collection request (ICR) for EPA Program Information on Source Water Protection (OMB Control No. 2040-0197) to the Office of Management and Budget (OMB) for review and approval in accordance with the Paperwork Reduction Act (PRA). Before doing so, EPA is soliciting public comments on specific aspects of the proposed information collection as described in this document. This is a proposed extension of the existing ICR, which is approved through July 31, 2022. An agency may not conduct or sponsor, and a person is not required to respond to, a collection of information unless it displays a currently valid OMB control number.

DATES: Comments must be submitted on or before February 28, 2022.

ADDRESSES: Submit your comments, identified by Docket ID No. EPA-HQ-OW-2004-0013, online using https://www.regulations.gov (our preferred method), by email to the Office of Water (OW) Docket at OW-Docket@epa.gov or by mail to the Water Docket, EPA Docket Center (WJC West), MC 28221T, Environmental Protection Agency, 1200 Pennsylvania Ave. NW, Washington, DC 20460.

EPA's policy is that all comments received will be included in the public docket without change, including any personal information provided, unless the comment includes profanities, threats, information claimed to be Confidential Business Information (CBI) or other information whose disclosure is restricted by statute.

FOR FURTHER INFORMATION CONTACT: Sherri Comerford, Drinking Water Protection Division—Prevention Branch, Office of Ground Water and Drinking Water (MC 4606M), Environmental Protection Agency, 1200 Pennsylvania Ave. NW, Washington, DC 20460; telephone number: 202-564-4639; email address: comerford.sherri@epa.gov.

SUPPLEMENTARY INFORMATION: Supporting documents that explain in detail the information that EPA will be collecting are available in the public docket for this ICR. The docket can be viewed online at https://www.regulations.gov or in person at the Water Docket, EPA Docket Center, WJC West, Room 3334, 1301 Constitution Ave. NW, Washington, DC. The telephone number for the Docket Center is 202-566-1744. For additional information about EPA's public docket, visit https://www.epa.gov/dockets.

Pursuant to Section 3506(c)(2)(A) of the PRA, EPA specifically solicits comments and information to enable the agency to evaluate whether the proposed collection of information is necessary for the proper performance of the functions of the agency, including whether the information will have practical utility; evaluate the accuracy of the agency's estimate of the burden of the proposed collection of information, including the validity of the methodology and assumptions used; enhance the quality, utility, and clarity of the information to be collected; and minimize the burden of the collection of information on those who are to respond, including through the use of appropriate automated electronic, mechanical, or other technological collection techniques or other forms of information technology. EPA will consider the comments received and amend the ICR as appropriate. The final ICR package will then be submitted to OMB for review and approval. At that time, EPA will issue another Federal Register notice to announce the submission of the ICR to OMB and the opportunity to submit additional comments to OMB.

Abstract: EPA is collecting data from the states on their advancement toward substantial implementation of protection strategies for all community water systems (CWSs). EPA and states use this voluntary collection of data to track and understand the progress toward increasing the percentage of CWSs (and the populations they serve) where risk is minimized through source water protection. Source water protection data that states submit directly to the Source Water Protection Information System (SDWIS) is accessible to the public via EPA's website. Availability of this information, together with source water and demographic indicators that are publicly available via EPA's Drinking Water Mapping Application to Protect Source Waters (DWMAPS), promotes equity by empowering communities to include these considerations in their own analyses and outreach efforts.

Form Notification: None.

Respondents/affected entities: 51.

Respondent's obligation to respond: Voluntary.

Frequency of response: Annual.

Total estimated annual burden: 288 hours. Burden is defined at 5 CFR 1320.03(b).

Total estimated cost: $16,721 (per year).

Changes in Estimates: EPA anticipates the annual totals for estimated burden and costs at 288 hours and $16,721, respectively. There is an expected decrease of hours in the total estimated respondent burden compared to what was identified in the ICR currently approved by OMB due to voluntary reporting that would decrease in frequency from quarterly to annual reporting. State databases are fully developed, and tracking is routine, which EPA believes will result in efficiencies that would allow states to minimize hourly burden and cost.

Radhika Fox,
Assistant Administrator.

[FR Doc. 2021-28152 Filed 12-27-21; 8:45 am]

BILLING CODE 6560-50-P